FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 012064-002.

Title: Hapag-Lloyd/NYK Mexico-Dominican Republic Slot Exchange Agreement.

Parties: Hapag-Lloyd AG and Nippon Yusen Kaisha.

Filing Party: Wayne Rohde, Esq.; Cozen O'Connor; 1627 I Street NW.; Suite 1100; Washington, DC 20006.

Synopsis: The amendment would increase the amount of space to be exchanged under the agreement and add authority for Hapag-Lloyd to charter space to NYK on a service string not previously covered by the agreement. The amendment would also delete obsolete language and clarify language in the agreement.

Agreement No.: 012214.

Title: Glovis/K-Line Space Charter Agreement.

Parties: Hyundai Glovis Co., Ltd. and Kawasaki Kisen Kaisha, Ltd.

Filing Party: John P. Meade, Esq.; General Counsel; K-Line America, Inc.; 6009 Bethlehem Road; Preston, MD 21655.

Synopsis: The agreement authorizes the parties to charter space to each other in the trade between South Korea on the one hand, and the U.S. East Coast and U.S. West Coast, on the other hand.

Agreement No.: 201217-001.

Title: Port of Long Beach Data Services Agreement.

Parties: Port of Long Beach; PierPass Inc.; Long Beach Container Terminal, Inc.; SSA Terminals, LLC; SSA Terminal (Long Beach), LLC; International Transportation Service, Inc.; Pacific Maritime Services, L.L.C.; and Total Terminals, LLC.

Filing Party: David F. Smith, Esq., Cozen O'Connor; 1627 I Street NW., Suite 1100; Washington, DC 20006-4007.

Synopsis: The amendment would extend the agreement term and adjust the compensation provided for in the agreement. The amendment would also clarify the name of one of the parties to the agreement. The parties have requested expedited review.

By Order of the Federal Maritime Commission.
Dated: July 26, 2013.
Karen V. Gregory,
Secretary.

[FR Doc. 2013-18405 Filed 7-30-13; 8:45 am]

BILLING CODE 6730-01-P